DEPARTMENT OF ENERGY

Federal Energy Regulatory Commission

Combined Notice of Filings #1

July 22, 2013.

Take notice that the Commission received the following electric corporate filings:

Docket Numbers: EC13-131-000.

Applicants: Carthage Energy, LLC, Allegany Generating Station LLC.

Description: Application for Authorization for Disposition of Jurisdictional Facilities and Request for Expedited Action of Carthage Energy, LLC, et al.

Filed Date: 7/22/13.

Accession Number: 20130722-5091.

Comments Due: 5 p.m. ET 8/12/13.

Take notice that the Commission received the following exempt wholesale generator filings:

Docket Numbers: EG13-47-000.

Applicants: Desert Sunlight 250, LLC.

Description: Notice of Self-Certification of Exempt Wholesale Generators Status of Desert Sunlight 250, LLC.

Filed Date: 7/19/13.

Accession Number: 20130719-5162.

Comments Due: 5 p.m. ET 8/9/13.

Docket Numbers: EG13-48-000.

Applicants: Desert Sunlight 300, LLC.

Description: Notice of Self-Certification of Exempt Wholesale Generator Status of Desert Sunlight 300, LLC.

Filed Date: 7/19/13.

Accession Number: 20130719-5167.

Comments Due: 5 p.m. ET 8/9/13.

Take notice that the Commission received the following electric rate filings:

Docket Numbers: ER12-2682-001.

Applicants: Midcontinent Independent System Operator, Inc.

Description: Compliance Filing of Pro Forma Tariff Sheets of Midcontinent Independent System Operator, Inc. regarding Module B-1 of MISO's Tariff.

Filed Date: 7/22/13.

Accession Number: 20130722-5108.

Comments Due: 5 p.m. ET 8/12/13.

Docket Numbers: ER13-89-002.

Applicants: Midcontinent Independent System Operator, Inc., MidAmerican Energy Company.

Description: 07-22-2013 MidAm Order 1000 Compliance to be effective 10/11/2012.

Filed Date: 7/22/13.

Accession Number: 20130722-5074.

Comments Due: 5 p.m. ET 8/21/13.

Docket Numbers: ER13-90-002.

Applicants: Duquesne Light Company, PJM Interconnection, L.L.C.

Description: PJM TOs Filing in Compliance with Cost Allocation Directives of 3/22/2013 Order to be effective 2/1/2013.

Filed Date: 7/22/13.

Accession Number: 20130722-5079.

Comments Due: 5 p.m. ET 8/21/13.

Docket Numbers: ER13-187-003.

Applicants: Midcontinent Independent System Operator, Inc.

Description: 07-22-2013 MISO Order 1000 Regional Compliance to be effective 6/1/2013.

Filed Date: 7/22/13.

Accession Number: 20130722-5107.

Comments Due: 5 p.m. ET 8/21/13.

Docket Numbers: ER13-187-004.

Applicants: Midcontinent Independent System Operator, Inc.

Description: 07-22-13 Order 1000 Regional Compliance TOA to be effective 6/1/2013.

Filed Date: 7/22/13.

Accession Number: 20130722-5109.

Comments Due: 5 p.m. ET 8/21/13.

Docket Numbers: ER13-1998-000.

Applicants: Florida Power & Light Company.

Description: FPL Revisions to FPL Rate Schedule FERC No. 322 to be effective 1/1/201.

Filed Date: 7/22/13.

Accession Number: 20130722-5075.

Comments Due: 5 p.m. ET 8/12/13.

Docket Numbers: ER13-1999-000.

Applicants: Midcontinent Independent System Operator, Inc.

Description: 07-22-13 Southern LRZ Filing to be effective 9/27/2013.

Filed Date: 7/22/13.

Accession Number: 20130722-5104.

Comments Due: 5 p.m. ET 8/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2013.
Nathaniel J. Davis, Sr.,
Deputy Secretary.

[FR Doc. 2013-18116 Filed 7-26-13; 8:45 am]

BILLING CODE 6717-01-P